DEPARTMENT OF ENERGY

Federal Energy Regulatory Commission

Combined Notice of Filings

Take notice that the Commission has received the following Natural Gas Pipeline Rate and Refund Report filings:

Docket Numbers: RP20-342-000.

Applicants: NGO Transmission, Inc.

Description: § 4(d) Rate Filing: Negotiated Rate Filing to be effective1/1/2020.

Filed Date: 12/19/19.

Accession Number: 20191219-5027.

Comments Due: 5 p.m. ET 12/31/19.

Docket Numbers: RP20-343-000.

Applicants: East Tennessee Natural Gas, LLC.

Description: § 4(d) Rate Filing: ETNG Duke Energy Progress releases beginning 01-01-2020 to be effective 1/1/2020.

Filed Date: 12/19/19.

Accession Number: 20191219-5033.

Comments Due: 5 p.m. ET 12/31/19.

Docket Numbers: RP20-344-000.

Applicants: Transcontinental Gas Pipe Line Company.

Description: Compliance filing Refund Report-Flow Through of Texas Eastern OFO Penalty Sharing to S-2 Customers to be effective N/A.

Filed Date: 12/19/19.

Accession Number: 20191219-5034.

Comments Due: 5 p.m. ET 12/31/19.

Docket Numbers: RP20-345-000.

Applicants: Algonquin Gas Transmission, LLC.

Description: § 4(d) Rate Filing: Cleanup Filing—Scheduling of Service to be effective 1/19/2020.

Filed Date: 12/19/19.

Accession Number: 20191219-5071.

Comments Due: 5 p.m. ET 12/31/19.

Docket Numbers: RP20-346-000.

Applicants: SG Resources Mississippi, L.L.C.

Description: § 4(d) Rate Filing: SG Resources Mississippi, L.L.C.—Filing of Tariff Modifications to be effective 1/20/2020.

Filed Date: 12/19/19.

Accession Number: 20191219-5129.

Comments Due: 5 p.m. ET 12/31/19.

Docket Numbers: RP20-347-000.

Applicants: Pine Prairie Energy Center, LLC.

Description: § 4(d) Rate Filing: Pine Prairie Energy Center, LLC—Filing of Tariff Modifications to be effective 1/20/2020.

Filed Date: 12/19/19.

Accession Number: 20191219-5133.

Comments Due: 5 p.m. ET 12/31/19.

Docket Numbers: RP20-348-000.

Applicants: Transcontinental Gas Pipe Line Company.

Description: § 4(d) Rate Filing: Non-Conforming—Patriots Energy Group—PSFT—Removal to be effective 1/19/2020.

Filed Date: 12/19/19.

Accession Number: 20191219-5188.

Comments Due: 5 p.m. ET 12/31/19.

Docket Numbers: RP20-349-000.

Applicants: Transcontinental Gas Pipe Line Company.

Description: § 4(d) Rate Filing: Negotiated Rates—FTP—Who Dat MC 547—Update to be effective 11/1/2019.

Filed Date: 12/19/19.

Accession Number: 20191219-5198.

Comments Due: 5 p.m. ET 12/31/19.

Docket Numbers: RP20-350-000.

Applicants: Southern Star Central Gas Pipeline, Inc.

Description: § 4(d) Rate Filing: Vol. 2—Amendment of Negotiated Rate Agreement—Scout Energy to be effective 1/1/2020.

Filed Date: 12/19/19.

Accession Number: 20191219-5206.

Comments Due: 5 p.m. ET 12/31/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 20, 2019.
Kimberly D. Bose,
Secretary.

.

[FR Doc. 2019-28125 Filed 12-27-19; 8:45 am]

BILLING CODE 6717-01-P